JUDICIAL CONFERENCE OF THE UNITED STATES

Meeting of the Judicial Conference Committee on Rules of Practice and Procedure

AGENCY: Judicial Conference of the United States Advisory Committee on Rules of Civil Procedure.

ACTION: Notice of Public Hearing and Open Meeting.

SUMMARY: On November 7, 2013, the Advisory Committee on Rules of Civil Procedure will hold a one-day public hearing on the proposed amendments to Civil Rules 1, 4, 6, 16, 26, 30, 31, 33, 34, 36, 37, 55, 84, and Appendix of Forms.

On November 8, 2013, the Advisory Committee on Rules of Civil Procedure will hold a one-day meeting. The meeting will be open to public observation but not participation.

DATES: November 7 and 8, 2013.

TIME: 8:30 a.m. to 5:00 p.m.

ADDRESSES: Thurgood Marshall Federal Judiciary Building, Mecham Conference Center, One Columbus Circle NE., Washington, DC 20544.

FOR FURTHER INFORMATION CONTACT: Jonathan C. Rose, Secretary and Chief Rules Officer, Rules Committee Support Office, Administrative Office of the United States Courts, Washington, DC 20544, telephone (202) 502-1820.

Dated: October 22, 2013.
Jonathan C. Rose,
Secretary and Chief Rules Officer.

Notice of Open Meeting

[FR Doc. 2013-25215 Filed 10-24-13; 8:45 am]

BILLING CODE 2210-55-P